INTERNATIONAL TRADE COMMISSION

[Inv. No. 337-TA-434]

In the matter of Certain Magnetic Resonance Injection Systems and Components Thereof; Notice of a Decision Not To Review an Initial Determination Granting a Motion for Summary Determination of Invalidity; Termination of the Investigation With a Finding of No Violation; Denial as Moot of Complainant's Motion To Suspend Investigation and Related Motions Filed by Respondents

AGENCY: U.S. International Trade Commission.

ACTION: Notice.

SUMMARY: Notice is hereby given that the U.S. International Trade Commission has determined not to review an initial determination (ID) (Order No. 16) issued by the presiding administrative law judge (ALJ) in the above-captioned investigation finding the only patent at issue in the investigation to be invalid. The determination not to review the summary determination ID results in termination of the investigation with a finding of no violation of section 337. Complainant's motion to suspend the investigation and related motions by respondents are denied as moot.

FOR FURTHER INFORMATION CONTACT: Jean Jackson, Esq., Office of the General Counsel, U.S. International Trade Commission, 500 E Street, SW., Washington, DC 20436, telephone (202) 205-3104. Hearing-impaired persons are advised that information on this matter can be obtained by contacting the Commission's TDD terminal on 202-205-1810. General information concerning the Commission may also be obtained by accessing its Internet server (http://www.usitc.gov).

SUPPLEMENTARY INFORMATION: The Commission instituted this investigation on May 26, 2000, based on a complaint filed by Medrad, Inc. of Indianola, Pennsylvania. The complaint alleged a violation of section 337 of the Tariff Act of 1930, 337 U.S.C. 1337, based on infringement of U.S. Letters Patent Re. 36,648, (the ‘648 patent) owned by complainant. The respondents named in the investigation are Nemoto Kyorindo Co., Ltd. of Tokyo, Japan; Liebel-Flarshiem Co. of Cincinnati, Ohio; and Mallinckrodt Inc. (New York Corp) and Mallinckrodt Inc. (Delaware Corp), both of Hazelwood, Missouri. 65 FR 34231.

On September 26, 2000, the ALJ issued an ID finding the ‘648 patent invalid due to certain omissions that occurred during patent reissue proceedings at the U.S. Patent and Trademark Office. The ALJ suspended the investigation during the pendency of the ID before the Commission. Petitions for review of the ID were filed on October 6, 2000, by complainant and by the Commission investigative attorney. Responses were filed on October 19, 2000. On October 16, 2000, the Commission determined to extend the date for determining whether to review the ID until December 6, 2000. 65 FR 63096 (October 20, 2000). On November 17, 2000, complainant Medrad filed a motion to suspend the investigation pending the outcome of a petition for reissue of the ‘648 patent that it had filed on November 16, 2000, with the U.S. Patent and Trademark Office. Respondents opposed the motion and the IA supported it. Respondents filed a motion to file a reply to the IA's response on December 4, 2000.

On November 27, 2000, the Commission extended the date for determining whether to review the summary determination ID until 30 days after it decides the motion to suspend the investigation. 65 FR 75303 (December 1, 2000). On January 16, 2001, respondent Nemoto filed a motion to compel the Commission to remand complainant's motion for suspension of the investigation to the presiding ALJ for determination. On January 18, 2000, the remaining respondents joined Nemoto's motion.

This action is taken under the authority of section 337 of the Tariff Act of 1930, 19 U.S.C. 1337, and section 210. 42(h)(3) of the Commission of Practice and Procedure, 19 CFR 210.42(h)(3).

Copies of the nonconfidential version of the ID and all other nonconfidential documents filed in connection with this investigation are or will be available for inspection during official business hours (8:45 a.m. to 5:15 p.m.) in the Office of the Secretary, U.S. International Trade Commission, 500 E Street SW., Washington, DC 20436, telephone 202-205-2000. Copies of these documents may also be downloaded from the Commission's Internet server at http://www.usitc.gov. Hearing impaired persons are advised that information on this matter can be obtained by contacting the Commission TDD terminal on 202-205-1810.

By order of the Commission.
Issued: February 12, 2001.
Donna R. Koehnke,
Secretary.

[FR Doc. 01-3892 Filed 2-15-01; 8:45 am]

BILLING CODE 7020-02-P